FEDERAL COMMUNICATIONS COMMISSION

[DA 07-1706]

Annual Adjustment of Revenue Thresholds

AGENCY: Federal Communications Commission.

ACTION: Notice.

SUMMARY: This document announces that the 2006 revenue threshold between Class A carriers and Class B carriers is increased to $134 million. The 2005 revenue threshold between larger Class A carriers and mid-sized carriers is increased to $7.950 billion.

FOR FURTHER INFORMATION CONTACT: Raj Kannan, Pricing Policy Division, Wireline Competition Bureau at (202) 418-1565.

SUPPLEMENTARY INFORMATION: This is a summary of the Commission's public notice released April 12, 2007. This notice announces the inflation-adjusted 2006 revenue thresholds used for classifying carrier categories for various accounting and reporting purposes: (1) distinguishing Class A carriers from Class B carriers; and (2) distinguishing larger Class A carriers from mid-sized carriers. The revenue threshold between Class A carriers and Class B carriers is increased to $134 million. The revenue threshold between larger Class A carriers and mid-sized carriers is increased to $7.950 billion. The revenue thresholds for 2006 were determined as follows:

| Class A to Class B threshold | Larger Class A to midsize threshold
(1) GDP-CPI Base | 86.68 | 102.40
(2) 2006 GDP-CPI | 116.29 | 116.29
(3) Inflation Factor (line 2 ÷ 1) | 1.3416 | 1.1356
(4) Original Revenue Threshold | $100 million | $7 billion
(5) 2006 Revenue Threshold (line 3 * 4) | $134 million | $7.950 billion

Federal Communications Commission.
Albert Lewis,
Chief, Pricing Policy Division, Wireline Competition Bureau.

[FR Doc. E7-9305 Filed 5-15-07; 8:45 am]

BILLING CODE 6712-01-P